DEPARTMENT OF TRANSPORTATION

Office of the Secretary

Notice of Request for Renewal of a Previously Approved Collection

AGENCY: Office of the Secretary, Department of Transportation.

ACTION: Notice.

SUMMARY: In accordance with the Paperwork Reduction Act of 1995, this notice announces the U.S. Department of Transportation's (DOT) intention to request an extension of the information collection request (ICR) OMB No. 2105-0552, Reports by Carriers on Incidents Involving Animals During Air Transport. The current information collection request approved by OMB expires on March 31, 2008.

DATES: Comments on this notice must be received by December 10, 2007.

ADDRESSES: You may submit comments by any of the following methods:

• Web site: http://www.regulations.gov.

• Fax: 1-202-493-2251.

• Mail: Docket Management Facility, U.S. Department of Transportation, 1200 New Jersey Ave., SE., Washington, DC 20590-0001.

• Hand Delivery: West Building, Ground Floor, Rm. W-12-140, 1200 New Jersey Ave., SE., Washington, DC 20590-0001 (between 9 a.m. and 5 p.m. EST, Monday through Friday, except on Federal holidays).

Instructions: All submissions must include the agency name and docket number for this notice. Note that all comments received will be posted without change to http://www.regulations.gov, including any personal information provided.

• Docket: For access to the docket to read background documents or comments received, go to http://www.regulations.gov at any time or West Building, Ground Floor, Rm. W-12-140, 1200 New Jersey Ave., SE., Washington, DC 20590-0001, between 9 a.m. and 5 p.m. EST, Monday through Friday, except Federal holidays.

FOR FURTHER INFORMATION CONTACT: Thomas Goodman or Blane Workie, Office of the General Counsel, U.S. Department of Transportation, W-96-422, 1200 New Jersey Ave., SE., Washington, DC 20590-0001, (202) 366-0205. Refer to OMB Control Number 2105-0552.

SUPPLEMENTARY INFORMATION: Title: Reports by Carriers on Incidents Involving Animals During Air Transport.

OMB Control Number: 2105-0552.

Type of Request: Extension without change of a previously approved collection.

Abstract: The requested extension of the approved control number covers the information collection request (ICR) OMB No. 2105-0552, “Reports by Carriers on Incidents Involving Animals During Air Transport,” which the Department of Transportation codified at 14 CFR 234.13. Section 234.13, which implements Section 710 of the Wendell H. Ford Aviation Investment and Reform Act for the 21st Century (AIR-21) [i.e., Public Law 106-810], requires U.S. air carriers that provide scheduled service to submit a monthly report on any incidents involving the loss, injury or death of an animal during air transport to the Department's Aviation Consumer Protection Division (ACPD). “Animal” is defined in the rule as any warm- or cold-blooded animal which, at the time of transportation, is being kept as a pet in a family household in the United States. The information gathered from the airline reports is published in DOT's Air Travel Consumer Report to provide the public with a valuable tool to use in choosing which air carrier to travel with when traveling with a pet.

Respondents: Air carriers that transport pets.

Estimated Number of Respondents: 30.

Estimated Total Burden on Respondents: 360 hours (Respondents (30) × Frequency (12 per year)).

Comments are invited on: (a) Whether the proposed collection of information is necessary for the proper performance of the functions of the Department, including whether the information will have practical utility; (b) the accuracy of the Department's estimate of the burden of the proposed information collection; (c) ways to enhance the quality, utility and clarity of the information collection; and (d) ways to minimize the burden of the collection of information on respondents, including the use of automated collection techniques or other forms of information technology. All responses to this notice will be summarized and included in the request for OMB approval. All comments will also become a matter of public record.

Issued in Washington, DC, on October 2, 2007.
Samuel Podberesky,
Assistant General Counsel for Aviation Enforcement & Proceedings, U.S. Department of Transportation.

[FR Doc. E7-19916 Filed 10-9-07; 8:45 am]

BILLING CODE 4910-62-P